DEPARTMENT OF COMMERCE

International Trade Administration

[Application No. 11-00001]

Export Trade Certificate of Review

ACTION: Notice of Application (#11-00001) for an Export Trade Certificate of Review for the Latin American Multichannel Advertising Council (“LAMAC”).

SUMMARY: The Office of Competition and Economic Analysis, International Trade Administration, U.S. Department of Commerce, received an application for an Export Trade Certificate of Review (“Certificate”) on February 3, 2011. This notice summarizes the conduct for which certification is sought and requests comments relevant to whether the Certificate should be issued.

FOR FURTHER INFORMATION CONTACT: Joseph E. Flynn, Director, Office of Competition and Economic Analysis, International Trade Administration, by telephone at (202) 482-5131 (this is not a toll-free number) or e-mail at etca@trade.gov.

SUPPLEMENTARY INFORMATION: Title III of the Export Trading Company Act of 1982 (15 U.S.C. Sections 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. Section 302(b)(1) of the Export Trading Company Act (15 U.S.C. 4012(b)(1)) and 15 CFR 325.6(a) require the Secretary to publish a notice in the Federal Register identifying the applicant and summarizing its proposed export conduct. Under 15 CFR 325.6(a), any interested party may, within twenty days after the date of publication of this notice, submit written comments to the Secretary on the application.

SUMMARY OF THE APPLICATION: Applicant: Latin American Multichannel Advertising Council (“LAMAC”), 1000 North Hiatus Road, Suite 203, Pembroke Pines, FL 33026; Contact: Ronald A. Oleynik, Counsel; Telephone: (202) 457-7183; Application No.: 11-00001; Date Deemed Submitted: February 10, 2011; Members: Discovery Latin America, LLC; Fox Latin American Channel, Inc.; NGC Networks Latin America, LLC; Turner Broadcasting System Latin America, Inc.; A&E Mundo, LLC; History Channel Latin America, LLC; and E! Entertainment Television Latin America Partners, L.P.

The applicant (LAMAC) seeks an Export Trade Certificate of Review to engage in the Export Trade Activities and Methods of Operation described below in the following Export Trade and Export Markets:

I. Export Trade

Distribution of Pay TV channel programming and ancillary rights (cable television rights, broadcast or satellite television rights, copyrights and neighboring rights, etc.), referred to in LAMAC's application as “Distribution Rights.”

II. Export Markets

Latin America, including Mexico, the Caribbean, Central America, and South America.

III. Export Trade Activities and Methods of Operation

With respect to Export Trade in the Export Markets, LAMAC seeks a Certificate of Review for it and/or one or more of its Members to engage in activities related to:

1. Exchange of information among LAMAC Members regarding all aspects of foreign market conditions and customers;

2. Collection and dissemination among LAMAC Members of foreign market research information and analysis;

3. Negotiation and agreement with foreign entities (audience data providers and advertisers) to reduce trade barriers and expand markets;

4. Development and recommendation of common business models to reduce foreign trade barriers and expand markets;

5. Entering into, termination, amendment, or enforcement of exclusive agreements to provide, produce, negotiate, contract, and administer Export Trade and Export Trade Facilitation Services;

6. Entering into, termination, amendment, or enforcement of territorial and customer restraints regarding the sale, licensing and/or transfer of title of its export services into the Export Markets;

7. Entering into, termination, amendment, or enforcement of exclusive or non-exclusive agreements for the tying of Distribution Rights and the setting of prices for Distribution Rights in the Export Markets;

8. Refusal to deal with, or to provide quotations (to, non-Members) regarding export Distribution Rights into the Export Markets;

9. Provide accounting, tax, legal and consulting assistance and services to LAMAC Members; and

10. Engaging in joint promotional activities aimed at developing Export Markets.

IV. Terms and Conditions

1. In engaging in Export Trade Activities and Methods of Operation, LAMAC will not intentionally disclose, directly or indirectly, to any Member any information about any other Member's costs, production, capacity, inventories, domestic prices, domestic sales, or U.S. business plans, strategies, or methods that is not already generally available to the trade or public.

2. LAMAC will comply with requests made by the Secretary of Commerce on behalf of the Secretary or the Attorney General for information or documents relevant to conduct under the Certificate. The Secretary of Commerce will request such information or documents when either the Attorney General or the Secretary of Commerce believes that the information or documents are required to determine that the Export Trade, Export Trade Activities and Methods of Operation of a person protected by this Certificate of Review continue to comply with the standards of section 303(a) of the Act.

Members (Within the Meaning of 15 CFR § 325.2(l))

Member means a person or entity that has membership in LAMAC and that has been named in the Certificate as a “Member” within the meaning of 15 CFR 325.2(l).

1. Discovery Latin America, LLC, 6505 Blue Lagoon Drive, Miami, Florida 33126.

2. Fox Latin American Channel, Inc., 1140 Sepulveda Boulevard, Third Floor, Los Angeles, California 90025.

3. NGC Networks Latin America, LLC, 1145 17th Street, NW., Washington, DC 20036.

4. Turner Broadcasting System Latin America, Inc., One CNN Center, 12th SW., Atlanta, Georgia 30303.

5. A&E Mundo, LLC, 2525 Ponce de Leon, Suite 250, Coral Gables, Florida 33134.

6. History Channel Latin America, LLC, 2525 Ponce de Leon, Suite 250, Coral Gables, Florida 33134.

7. E! Entertainment Television Latin America Partners, L.P., 2525 Ponce de Leon, Suite 250, Coral Gables, Florida 33134.

Dated: February 22, 2011.
Joseph E. Flynn,
Director, Office of Competition and Economic Analysis.

[FR Doc. 2011-4326 Filed 2-25-11; 8:45 am]

BILLING CODE 3510-DR-P